SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before October 4, 2021.

ADDRESSES: Send all comments to, Cynthia Pitts, Director, Disaster Administrative Services, Office of Disaster Assistance, cynthia.pitts@sba.gov Small Business Administration.

FOR FURTHER INFORMATION CONTACT: Cynthia Pitts, Director, Disaster Administrative Services, Office of Disaster Assistance, Small Business Administration, Cynthia.pitts@sba.gov, Curtis B. Rich, Management Analyst, 202-205-7030, curtis.rich@sba.gov; Application for benefits (loan) used to determine eligibility and credit worthiness of small businesses or not for profit organization who seek Federal assistance in a declared disaster. Respondents are disaster survivors seeking disaster assistance.

SUPPLEMENTARY INFORMATION: Application for benefits (grant) used to determine eligibility and credit worthiness of applicants who seek Federal grant assistance. Respondents are live venue operator or promotor, theatrical producer, or live performing arts organization operator, museum operator, motion picture theatre operator, or talent representative.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control No: 3245-0420.

(1) Title: Shuttered Venues Grant Application.

Description of Respondents: Eligible persons or entities seeking grant assistance: A live venue operator or promoter, theatrical producer, or live performing arts organization operator, museum operator, motion picture theatre operator, or talent representative.

Form Number: SBA Form 3515.

Total Estimated Annual Responses: 30,000.

Total Estimated Annual Hour Burden: 60,000.

Curtis Rich,
Management Analyst.

[FR Doc. 2021-16533 Filed 8-3-21; 8:45 am]

BILLING CODE 8026-03-P